TENNESSEE VALLEY AUTHORITY

Meetings; Sunshine Act

Agency Holding the Meeting: Tennessee Valley Authority (Meeting No. 1562).

Time and Date: 1 p.m. (EST), February 13, 2006. TVA West Tower Auditorium, 400 West Summit Hill Drive, Knoxville, Tennessee.

Status: Open.

Agenda: Approval of minutes of meeting held on September 28, 2005.

New Business

A—Budget and Financing

A1. Proposed Rate Adjustment and Rate Addendum.

C—Energy

C1. Gibson County Coal LLC—Delegation of authority to the Executive Vice President, Fossil Power Group, to enter into a contract for coal supply to Colbert Fossil Plant Units 1-4.

C2. Cumberland Coal Resources LP—Delegation of authority to the Executive Vice President, Fossil Power Group, to enter into a contract for coal supply to various TVA fossil plants.

E—Real Property Transactions

E1. Knoxville Office Complex East Tower—Approval of the public auction sale of leasehold interests or term easements and reaffirmation of the declaration of surplus and sale at public auction of the fee interest (Tract No. XKOC-4) and conveyance of associated easements (Tract Nos. XKOC-5E and XKOC-6E), affecting approximately 1 acre of land in Knoxville Tennessee.

Information Items

1. Westinghouse Electric Company—Approval of contract for replacement steam generators, with associated equipment, for Sequoyah Nuclear Plant Unit 2.

2. Town of Spring City, Tennessee—Approval of utility agreement with TVA for sanitary sewer disposal and for the grant of a permanent easement and temporary construction easement for a sewer line to extend to the Watts Bar Nuclear Plant.

3. Bartlett Holdings, Inc. (formerly known as Numanco LLC)—Approval of contract supplement for specialty staffing services (health physics technicians and instrument mechanics) for nuclear operations at all TVA nuclear plants and general staffing support at Browns Ferry Unit 1 Restart.

4. ABB, Inc.—Approval of indefinite quantity term contract for the supply of medium voltage power transformers.

5. CSX Transportation—Delegation of authority to the Executive Vice President, Fossil Power Group, to enter into a contract for rail transportation of high-sulfur coal to Paradise Fossil Plant.

6. Burlington Northern Santa Fe Railway Company—Delegation of authority to the Executive Vice President, Fossil Power Group, to extend Contract No. C-12306 for rail transportation of Wyoming coal to various TVA fossil plants through the year 2010.

7. Coalsales LLC and Resource Sales Inc.—Delegation of authority to the Executive Vice President, Fossil Power Group, to enter into contracts for coal supply to TVA's scrubbed plants.

8. CSX Transportation—Delegation of authority to the Executive Vice President, Fossil Power Group, to extend the contract for rail transportation of coal to Bull Run Fossil Plant through the year 2015.

9. Variable Price Interruptible Power (VPI) Exit Fee “ Approval of option for customers that would like to switch from VPI to firm power.

10. Two-Part Real Time Pricing Pilot Program—Approval of program modifications.

11. Pilot Seasonal Rates for Large Manufacturing Customers—Approval of program.

12. Seasonal Time of Use Pricing Overlay—Approval of pilot program.

13. Two-Part Real Time Pricing (2-Part RTP) Pilot Program—Approval of arrangements with a directly served customer and other proposed actions relating to the program.

14. Competitive Index Rate (CIR)—Approval of arrangements with a directly served customer.

15. Long-Term Power Supply—Approval of arrangements with a directly served customer.

16. Market Days Option for Flat Price Interruptible Power Program—Approval to add market days option.

17. Alcoa Switching Station—Approval of abandonment of the 161-kV transmission line easement, affecting approximately 1.2 acres in Blount County, Tennessee, Tract No. JSAS-394, S.1X.

18. Regional Resource Stewardship Council—Approval of charter extension for 1 year, continuation of service of members and chair, and authorization of the Executive Vice President, River System Operations & Environment, to complete the charter renewal process in accordance with the Federal Advisory Committee Act.

19. Columbia to Murfreesboro Transmission Line—Approval of abandonment of easement affecting approximately 40 acres of land in Rutherford County, Tennessee, Tract Nos. CMB-129 through CMB-144.

20. Kevin and Karen Millikan—Approval of the sale of a nonexclusive permanent easement for private water-use facilities, affecting approximately .12 acre of land on Tellico Reservoir in Monroe County, Tennessee, Tract No. XTELR-254RE.

21. U.S. Department of Agriculture, Forest Service—Approval of sale of an approximately .06 acre portion of former TVA land on Blue Ridge Reservoir, in Fannin County, Georgia, XTBRR-1.

22. City of Norris—Approval of transfer of real property affecting approximately 420 acres of land on Norris Reservoir in Anderson County, Tennessee, Tract No. XTNR-117.

23. Assistant Secretaries of TVA—Approval of appointments of Nicholas P. Goschy, Jr., and Ralph E. Rodgers.

24. Condemnation Cases—Approval of filing to acquire easements and rights-of-way for transmission line projects, affecting Aspen Grove-Westhaven in Williamson County, Tennessee; Basin-Toccoa in Polk County, Tennessee; Northeast Benton—Etowah District in Polk and McMinn Counties, Tennessee; Cumberland FP-Montgomery in Montgomery County, Tennessee; and East Franklin-Truine Tap to Clovercroft in Williamson County, Tennessee.

25. Condemnation Cases—Approval of filing to acquire easements and rights-of-way for transmission projects, affecting East Franklin-Truine Tap to Clovercroft in Williamson County, Tennessee.

26. Delegations of Authority—Approval of extension of interim delegations relating to procurement contracts, financing, and personnel and compensation.

27. Tax-equivalent Payments—Approval of payments for Fiscal Year 2005 and estimate of payments for Fiscal Year 2006.

28. Winning Performance Team Incentive Plan—Approval of FY 2006 Scorecard.

29. TVA Retirement System Board—Approval of appointment of Phillip L. Reynolds to the Board of Directors.

30. TVA Retirement System (TVARS)—Amendments to the Rules and Regulations and to the Provisions of the TVA Savings and Deferral Retirement Plan.

31. The Office and Professional Employees International Union—Approval of implementation of Fiscal Year 2006 pay adjustments.

32. International Brotherhood of Teamsters—Approval of implementation of Calendar Year 2006 pay adjustments.

33. Trades and Labor Annual Employees—Approval of implementation of Calendar Year 2006 pay adjustments.

34. Bellefonte Nuclear Plant—Approval of cancellation of construction of the deferred Units 1 and 2.

35. Alliance Coal Corporation—Approval of delegation of authority to the Executive Vice President, Fossil Power Group, to enter into a contract for coal supply to Bull Run Fossil Plant.

36. Norris Reservoir—Deed modification affecting approximately 6.5 acres of former TVA land in Campbell County, Tennessee, Tract No. XNR-165, S.2X.

37. Retention of Net Power Proceeds and Nonpower Proceeds and Payments to the U.S. Treasury—Approval.

38. Summer Place Tower—Authorization of the public auction sale of leasehold interests located at 500 West Summit Hill Drive, Knoxville, Knox County, Tennessee.

For more information: Please call TVA Media Relations at (865) 632-6000, Knoxville, Tennessee. Information is also available at TVA's Washington Office (202) 898-2999.

People who plan to attend the meeting and have special needs should call (865) 632-6000. Anyone who wishes to comment on any of the agenda in writing may send their comments to: TVA Board of Directors, Board Agenda Comments, 400 West Summit Hill Drive, Knoxville, Tennessee 37902.

Dated: February 6, 2006.
Maureen H. Dunn,
General Counsel and Secretary.

[FR Doc. 06-1228 Filed 2-7-06; 9:47 am]

BILLING CODE 8120-08-P